DEPARTMENT OF THE INTERIOR

Fish and Wildlife Service

[FWS-R6-ES-2009-N0107; 61411-0000-1115-F4]

Montana Department of Natural Resources and Conservation; Draft Environmental Impact Statement Availability and Public Meetings

AGENCY: Fish and Wildlife Service, Interior.

ACTION: Notice and request for comment.

SUMMARY: This notice advises the public that the Montana Department of Natural Resources and Conservation (DNRC), on behalf of the State of Montana, has submitted an incidental take permit (ITP) application to the U.S. Fish and Wildlife Service (Service, US) under the Endangered Species Act of 1973, as amended (ESA). As the ESA requires, DNRC has also prepared a proposed habitat conservation plan (HCP) designed to minimize and mitigate any such take of endangered or threatened species. The ITP application includes the proposed HCP and draft Implementation Agreement (IA). We also announce the availability of a draft environmental impact statement (draft EIS) for the proposed action. The ITP application addresses forest management and timber harvest activities on approximately 221,970 hectares (548,500 acres) of forested State trust lands in western Montana. We request comments from the public on the ITP application, proposed HCP, IA, and draft EIS.

DATES: We must receive any comments no later than September 24, 2009.

ADDRESSES: Address all written comments to Kathleen Ports, by mail at Montana Department of Natural Resources and Conservation, 2705 Spurgin Road, Missoula, MT 59802, or by facsimile at (406) 542-4274; or to Tim Bodurtha, by mail at U.S. Fish and Wildlife Service, 780 Creston Hatchery Road, Kalispell, MT 59901, or by facsimile at (406) 758-6877. Alternatively, submit comments by e-mail to dnrchcp@mt.gov. See the SUPPLEMENTARY INFORMATION below for where documents are available for viewing.

FOR FURTHER INFORMATION CONTACT: For further information about the proposed action, to receive the documents on CD-ROM, or for further information about reasonable accommodations to attend and participate in the public meetings, please contact Kathleen Ports, (406) 542-4330, or Tim Bodurtha, (406) 758-6882. To allow sufficient time to process reasonable accommodation requests, please call no later than 1 week before the public meeting. Information regarding the proposed action is available in alternative formats upon request.

SUPPLEMENTARY INFORMATION:

Availability of Documents

The draft documents are available for public inspection and review on the internet at http://www.dnrc.mt.gov/HCP/default.asp and at the following Montana libraries:

• Missoula Public Library, 301 East Main Street, Missoula;

• Kalispell Public Library, 247 First Avenue East, Kalispell;

• Whitefish Public Library, 9 Spokane Avenue, Whitefish; and

• Lewis and Clark Library, 120 South Last Chance Gulch, Helena.

Copies of the application and draft documents also are available for inspection and review, by appointment, at the DNRC and Service offices (see ADDRESSES) during normal business hours or by requesting copies on CD ROM from the Service (see FOR FURTHER INFORMATION CONTACT).

Public Meetings

The DNRC and Service will hold public meetings at 2 p.m.-8 p.m. at the following dates and locations:

• July 20, 2009—Flathead Valley Community College, Arts & Technology Building, Room 139, 745 Grand View Drive, Kalispell, MT 59901.

• July 22, 2009—Best Western Great Northern Hotel, 835 Great Northern Boulevard, Helena, MT 59601.

• July 23, 2009—Double Tree Hotel, 100 Madison Street, Missoula, MT 59802.

Exact locations and any changes to locations and meeting times will be made available via media outlets and on the Internet at http://www.dnrc.mt.gov/HCP/default.asp.

Background

Section 9 of the ESA (16 U.S.C. 1531 et seq.) and Federal regulations prohibit the taking of a species listed as endangered or threatened. The term take is defined under the ESA to mean to harass, harm, pursue, hunt, shoot, wound, kill, trap, capture, or collect, or to attempt to engage in any such conduct. Harm is defined to include significant habitat modification or degradation where it actually kills or injures wildlife by significantly impairing essential behavioral patterns, including breeding, feeding, and sheltering.

Section 10(a)(1)(B) of the ESA and its implementing regulations specify the requirements for issuance of permits to non-Federal parties for the take of listed species. Any proposed take must be incidental to, and not the purpose of, otherwise lawful activities, must not appreciably reduce the likelihood of the survival and recovery of the species in the wild, and must minimize and mitigate the impact of such take to the maximum extent practicable. The Service's regulations governing permits for threatened and endangered species are in 50 CFR 13 and 50 CFR 17, respectively.

The DNRC Trust Lands Management Division manages more than 5.1 million surface acres and more than 6.2 million subsurface acres of trust lands to produce revenues for the trust beneficiaries. Approximately 294,071 hectares (726,666 acres) of trust lands Statewide are managed for timber production and other forest products. Forested State trust lands are managed in accordance with the State Forest Land Management Plan (SFLMP) and the Forest Management Administrative Rules of Montana (Rules). The SFLMP and Rules directed DNRC to coordinate with the Service to develop habitat mitigation measures to address the needs of listed species.

The HCP covers approximately 221,970 hectares (548,500 acres) of trust lands in western Montana in three of the six DNRC land offices. The DNRC manages scattered parcels of land as well as blocks of land in the Swan River State Forest and Stillwater State Forest.

The DNRC prepared a 50-year HCP to address incidental take of grizzly bear (Ursus arctos horribilis), Canada lynx (Lynx canadensis), and bull trout (Salvelinus confluentus), all of which are listed as threatened under the ESA. Unlisted species included in DNRC's application are the westslope cutthroat trout (Oncorhynchus clarki lewisi) and Columbia redband trout (Oncorhynchus mykiss gairdneri). The DNRC would receive incidental take authorization should these species be listed during the term of the permit.

Activities proposed for coverage under the ITP include the following: (1) Timber harvesting (including salvage harvesting and silvicultural treatments such as thinning); (2) road construction, maintenance, use, and abandonment and associated gravel quarrying, as well as installation, removal, and replacement of stream crossing structures; (3) site preparation and reforestation of harvested areas (including piling and/or burning harvest debris and mechanical scarification); and (4) issuance of grazing licenses on classified forest trust lands.

We formally initiated an environmental review of the project through publication of a notice of intent to prepare an EIS in the Federal Register on April 28, 2003 (68 FR 22412). That notice also announced a public scoping period during which we invited interested parties to provide written comments expressing their issues or concerns related to the proposal and to attend one of four public scoping meetings held in western Montana.

Based on public scoping comments, we have prepared a draft EIS to analyze the effects of alternatives on the human environment. The proposed HCP, including issuance of the associated incidental take permit, is analyzed as Alternative 2 in the Draft EIS. The Draft EIS also includes analyses of a no-action alternative and two additional HCP alternatives.

We provide this notice under the ESA and National Environmental Policy Act of 1969, as amended (NEPA) (42 U.S.C. 4321). To determine whether the application meets the requirements of the ESA and NEPA, we will evaluate the application, associated documents, and public comments we receive.

Public Review and Comment

We furnish this notice to allow other agencies and the public an opportunity to review and comment on these documents. For locations to review the documents, please see SUPPLEMENTARY INFORMATION.

If you wish to comment on the permit application or the Agreement, you may submit your comments to the address listed under ADDRESSES. Before including your address, telephone number, e-mail address, or other personal identifying information in your comment, you should be aware that your entire comment—including your personal identifying information—may be made publicly available at any time. While you can ask us in your comment to withhold your personal identifying information from public review, we cannot guarantee that we will be able to do so.

We are particularly interested in comments pertaining to the application requirements under 50 CFR 17.22(b)(1). These include whether the HCP: Provides complete descriptions of the activities under which the incidental taking of covered species is likely to occur; describes the impacts to covered species that will likely result from the incidental taking; outlines the steps DNRC will take to monitor, minimize, and mitigate such impacts for each covered species and the available funding to implement such steps over the term of the ITP; and describes alternative actions to such taking and the reasons why such alternatives are not proposed to be utilized. As part of evaluating whether the permit issuance criteria are met, we specifically seek comment on whether the minimization and mitigation measures are being undertaken to the maximum extent practicable.

Next Steps

We will evaluate the ITP application, including the proposed HCP and any comments we receive, to determine whether the application meets the requirements of section 10(a)(1)(B) of the ESA. We will also evaluate whether issuance of the section 10(a)(1)(B) ITP complies with section 7 of the ESA by conducting an intra-Service section 7 consultation. We will use the results of this consultation, in combination with the above findings, in our final analysis to determine whether or not to issue the ITP. If we determine that the requirements are met, we will issue the ITP for the incidental take of species.

Authority

We provide this notice under section 10 of the Act (16 U.S.C. 1531 et seq.) and NEPA regulations (40 CFR 1506.6).

Dated: June 11, 2009.
Sharon R. Rose,
Acting Deputy Regional Director.

[FR Doc. E9-15246 Filed 6-25-09; 8:45 am]

BILLING CODE 4310-55-P